SECURITIES AND EXCHANGE COMMISSION

[Release No. 34-84992; SR-CboeEDGX-2018-049]

Self-Regulatory Organizations; Cboe EDGX Exchange, Inc.; Notice of Withdrawal of a Proposed Rule Change To Adopt Complex Reserve Order Functionality

January 28, 2019.

On November 8, 2018, Cboe EDGX Exchange, Inc. filed with the Securities and Exchange Commission (“Commission”), pursuant to Section 19(b)(1) of the Securities Exchange Act of 1934 (“Act”) ¹ and Rule 19b-4 thereunder,² a proposed rule change to adopt Complex Reserve Order functionality. The proposed rule change was published for comment in the Federal Register on November 27, 2018.³ On December 19, 2018, the Commission extended the time period within which to approve the proposed rule change, disapprove the proposed rule change, or institute proceedings to determine whether to approve or disapprove the proposed rule change to February 25, 2019.⁴ The Commission received no comment letters regarding the proposed rule change.

¹ 15 U.S.C. 78s(b)(1).

² 17 CFR 240.19b-4.

³ See Securities Exchange Act Release No. 84642 (November 21, 2018), 83 FR 60911.

⁴ See Securities Exchange Act Release No. 84868, 83 FR 66800 (December 27, 2018).

On January 9, 2019, the Exchange withdrew the proposed rule change (SR-CboeEDGX-2018-049).

⁵ 17 CFR 200.30-3(a)(12).

For the Commission, by the Division of Trading and Markets, pursuant to delegated authority.⁵
Eduardo A. Aleman,
Deputy Secretary.

[FR Doc. 2019-00590 Filed 1-31-19; 8:45 am]

BILLING CODE 8011-01-P